DEPARTMENT OF DEFENSE

Office of the Secretary

[Docket ID DoD-2020-OS-0001]

Privacy Act of 1974; System of Records; Correction

AGENCY: Office of the Secretary, Department of Defense (DoD).

ACTION: Notice of a modified System of Records; correction.

SUMMARY: On Tuesday, January 14, 2020, the DoD published a notice titled “Privacy Act of 1974; System of Records” that modified a System of Records titled, “Forms and Account Management Service (FAMS), DCFO 01.” Subsequent to the publication of the notice, DoD discovered that the SORN designator “DCFO 01” was not correct. This notice corrects the error.

DATES: This correction is effective on March 24, 2020.

FOR FURTHER INFORMATION CONTACT: Patricia L. Toppings, 571-372-0485.

SUPPLEMENTARY INFORMATION: On Tuesday, January 14, 2020 (85 FR 2112-2114), the DoD published a notice titled “Privacy Act of 1974; System of Records” that modified a System of Records titled, “Forms and Account Management Service (FAMS), DCFO 01.” The error referenced in the SUMMARY section of this notice is corrected to read as follows:

1. On page 2112, in the third column, in the SUMMARY section “DCFO 01” is corrected to read ”DUSDC 02.”

2. On page 2113, in the second column, in the SYSTEM NAME AND NUMBER paragraph, “DCFO-01” is corrected to read “DUSDC 02.”

Dated: March 19, 2020.
Aaron T. Siegel,
Alternate OSD Federal Register Liaison Officer, Department of Defense.

[FR Doc. 2020-06151 Filed 3-23-20; 8:45 am]

BILLING CODE 5001-06-P